DEPARTMENT OF THE INTERIOR

Bureau of Land Management

[ID310-06-1640-HQ]

Notice of Emergency Closure/Restriction Order

AGENCY: Bureau of Land Management, Department of the Interior.

ACTION: Notice of Emergency Closure/Restriction Order.

SUMMARY: Pursuant to 43 CFR 8364.1, the Bureau of Land Management (BLM) Upper Snake Field Office (USFO) will temporarily close parts of four sections of public lands to car and truck traffic. This closure will cut off of certain roads to target shooting. BLM is taking this action because of uncontrolled, open, illegal dumping by members of the public of unwanted and waste items. Any person who fails to comply with a closure or restriction order issued under this authority may be subject to the penalties provided in 43 CFR 8360.0-7. The closure is effective immediately upon publication of this notice in the Federal Register.

SUPPLEMENTARY INFORMATION: Annually, the BLM buries or removes 20 to 50 dumped dead animals and about 10 tons of solid waste from the public lands near North Menan Butte, a National Natural Landmark. The waste originates from the public, who bring and leave propane tanks, hot water heaters, computers, televisions, washers, dryers, car batteries, paint cans and other waste objects. Target shooters use this waste to shoot at and leave shell casings littering the landscape. This area is now a health and safety hazard due to dumping, shooting, and the potential for disease transmission from uncovered dead animal carcasses. This waste has also attracted hazardous waste dumping in recent years.

BLM proposes to close the following sections:

Boise Meridian, Idaho

T. 6 N., R 38 E.,

Section 27 (all) in Madison County,

Sections 28 (parts) in Jefferson County, and

T. 5 N., R. 38 E.,

Sections 4 (all) and 5 (parts) in Jefferson County.

Signs will be placed on the highway and at the site explaining the road and target shooting closures. Fences and road barriers will be installed that will allow for continued access by ATVs, motorcycles, equestrian use, and foot traffic in the southern portion.

Exemptions: Persons who are exempt from this restriction include: Any federal, state or local officer or employee acting within the scope of their duties; members of any organized rescue or fire-fighting force in the performance of an official duty; any person holding written authorization from the BLM.

EFFECTIVE DATE: This temporary closure will be effective the date this notice is published in the Federal Register and will remain in effect for three years from the date of publication or until rescinded or modified by the authorized officer or designated Federal officer.

Additional Information: Additional information concerning the emergency closure is available by contacting Dan Kotansky at the BLM Upper Snake Field Office, 1405 Hollipark Drive, Idaho Falls, Idaho 83401, or by calling (208) 524-7500.

(Authority: 43 CFR 8364.1. Violators of this closure order are punishable by a fine not to exceed $1,000 and/or imprisonment not to exceed 12 months. 43 CFR 8360.0-7.)

Dated: January 11, 2007.
Wendy Reynolds,
Upper Snake Field Manager.

[FR Doc. E7-3641 Filed 3-1-07; 8:45 am]

BILLING CODE 4310-GG-P